DEPARTMENT OF ENERGY

Federal Energy Regulatory Commission

Combined Notice of Filings #1

Take notice that the Commission received the following electric corporate filings:

Docket Numbers: EC15-192-000.

Applicants: Alabama Electric Marketing, LLC, California Electric Marketing, LLC, New Mexico Electric Marketing, LLC, Texas Electric Marketing, LLC.

Description: Application of Alabama Electric Marketing, LLC, et al. for Approval under Section 203 of the Federal Power Act and Request for Expedited Action.

Filed Date: 8/20/15.

Accession Number: 20150820-5082.

Comments Due: 5 p.m. ET 9/10/15.

Take notice that the Commission received the following electric rate filings:

Docket Numbers: ER15-861-003.

Applicants: California Independent System Operator Corporation.

Description: Compliance filing: 2019-08-19 EIM Available Balancing Capacity Compliance to be effective 11/1/2015.

Filed Date: 8/19/15.

Accession Number: 20150819-5190.

Comments Due: 5 p.m. ET 9/9/15.

Docket Numbers: ER15-2057-000.

Applicants: Tanner Street Generation, LLC.

Description: Supplement to June 29, 2015 Tanner Street Generation, LLC tariff filing.

Filed Date: 8/20/15.

Accession Number: 20150820-5140.

Comments Due: 5 p.m. ET 8/31/15.

Docket Numbers: ER15-2132-001.

Applicants: Wisconsin Electric Power Company.

Description: Tariff Amendment: Wisconsin Electric Formula Rate Tariff Amended August 2015 to be effective 9/6/2015.

Filed Date: 8/19/15.

Accession Number: 20150819-5180.

Comments Due: 5 p.m. ET 9/9/15.

Docket Numbers: ER15-2133-001.

Applicants: Wisconsin Electric Power Company.

Description: Tariff Amendment: Wisconsin Electric Rate Schedule 90 Amended August 2015 to be effective 9/6/2015.

Filed Date: 8/19/15.

Accession Number: 20150819-5184.

Comments Due: 5 p.m. ET 9/9/15.

Docket Numbers: ER15-2494-000.

Applicants: Southwest Power Pool, Inc.

Description: Section 205(d) Rate Filing: 1883R4 Westar Energy, Inc. NITSA and NOA to be effective 8/1/2015.

Filed Date: 8/20/15.

Accession Number: 20150820-5048.

Comments Due: 5 p.m. ET 9/10/15.

Docket Numbers: ER15-2495-000.

Applicants: Calpine New Jersey Generation, LLC.

Description: Section 205(d) Rate Filing: Revised FERC Electric Tariff, Volume No. 3 to be effective 5/1/2015.

Filed Date: 8/20/15.

Accession Number: 20150820-5093.

Comments Due: 5 p.m. ET 9/10/15.

Docket Numbers: ER15-2496-000.

Applicants: Southwest Power Pool, Inc.

Description: Section 205(d) Rate Filing: 1894R4 Westar Energy, Inc. NITSA and NOA to be effective 8/1/2015.

Filed Date: 8/20/15.

Accession Number: 20150820-5159.

Comments Due: 5 p.m. ET 9/10/15.

Docket Numbers: ER15-2497-000.

Applicants: Southwest Power Pool, Inc.

Description: Section 205(d) Rate Filing: 2066R4 Westar Energy, Inc. NITSA and NOA to be effective 8/1/2015.

Filed Date: 8/20/15.

Accession Number: 20150820-5162.

Comments Due: 5 p.m. ET 9/10/15.

Docket Numbers: ER15-2498-000.

Applicants: Southwest Power Pool, Inc.

Description: Section 205(d) Rate Filing: 2491R3 Westar Energy, Inc. NITSA and NOA to be effective 8/1/2015.

Filed Date: 8/20/15.

Accession Number: 20150820-5177.

Comments Due: 5 p.m. ET 9/10/15.

Take notice that the Commission received the following public utility holding company filings:

Docket Numbers: PH15-18-000.

Applicants: arGo Partners GP LLC.

Description: arGo Partners GP LLC submits FERC 65-B Waiver Notification.

Filed Date: 8/20/15.

Accession Number: 20150820-5157.

Comments Due: 5 p.m. ET 9/10/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 20, 2015.
Nathaniel J. Davis, Sr.,
Deputy Secretary.

[FR Doc. 2015-21111 Filed 8-25-15; 8:45 am]

BILLING CODE 6717-01-P